DEPARTMENT OF ENERGY

[Docket No. EA-269]

Application To Export Electric Energy; Energy America LLC.

AGENCY: Office of Fossil Energy, DOE.

ACTION: Notice of application.

SUMMARY: Energy America LLC (Energy America) has applied for authority to transmit electric energy from the United States to Canada pursuant to section 202(e) of the Federal Power Act.

DATES: Comments, protests or requests to intervene must be submitted on or before August 1, 2002.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16U.S.C. § 824a(e)).

On June 4, 2002, the Office of Fossil Energy (FE) of the Department of Energy (DOE) received an application from Energy America LLC (Energy America) to transmit electric energy from the United States to Canada. Energy America is a Delaware corporation having its principal place of business in Toronto, Ontario, Canada. Energy America is a direct, wholly-owned subsidiary of Centrica US Holding Ltd. (Centricia US) and Centrica Canada Ltd. Energy America is currently an energy supplier that engages in the purchase and sale of both wholesale and retail energy and capacity in the U.S. and Canadian electricity markets. Energy America does not own or control any electric power generation or transmission facilities and does not have a franchised service area in the United States.

Energy America proposes to arrange for the delivery of wholesale and retail electric energy to Canada over the existing international transmission facilities owned by Basin Electric Power Cooperative, Bonneville Power Administration, Citizen Utilities, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company. The construction, operation, maintenance, and connection of each of the international transmission facilities to be utilized by Energy America , as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the Federal Energy Regulatory Commission's rules of practice and procedures (18 CFR 385.211, 385.214). Fifteen copies of each petition and protest should be filed with DOE on or before the date listed above.

Comments on the Energy America application to export electric energy to Canada should be clearly marked with Docket EA-269. Additional copies are to be filed directly with Nick Fulford, Sr. Vice President Business Development, Centrica North America/Energy America, 25 Shepard Avenue, W., Suite 1500, Toronto, Ontario, Canada, M2N 6S6 AND Jerry L. Pfeffer, Energy Industries Advisor, Skadden, Arps, Slate, Meagher & Flom LLP, 1440 New York Avenue, NW., Washington, DC 20005-2111.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Procedures” from the options menus.

Issued in Washington, DC, on June 21, 2002.
Anthony J. Como,
Deputy Director, Electric Power Regulation, Office of Coal & Power Import/Export, Office of Coal & Power Systems, Office of Fossil Energy.

[FR Doc. 02-16640 Filed 7-1-02; 8:45 am]

BILLING CODE 6450-01-P